Proclamation 10335 of January 14, 2022

Martin Luther King, Jr., Federal Holiday, 2022

By the President of the United States of America

A Proclamation

On a late summer day in 1963, Reverend Dr. Martin Luther King, Jr., stood on the National Mall before hundreds of thousands of demonstrators who had gathered to march for freedom, justice, and equality. On that day, Dr. King shared a dream that has continued to inspire a Nation: To bring justice where there is injustice, freedom where there is oppression, peace where there is violence, and opportunity where there is poverty. Today, people of all backgrounds continue that march—raising their voices to confront abuses of power, challenge hate and discrimination, protect the right to vote, and access quality jobs, health care, housing, and education. On this day, we reflect on the legacy of a man who issued a call to the conscience of our Nation and our world.

Dr. King pushed us to see ourselves in one another, recognizing that we are “caught in an inescapable network of mutuality, tied in a single garment of destiny.” He reminded us that we have a duty to uphold our founding ideals and work to perfect our Union. Through bus boycotts, restaurant sit-ins, freedom rides, and marches, the movement that Dr. King helped lead used non-violent protest and civil disobedience to advance the call for justice. He was jailed dozens of times for his efforts, but Dr. King's commitment to justice never wavered. From a Birmingham jail, he reminded us that “human progress never rolls in on wheels of inevitability . . . injustice must be rooted out by strong, persistent, and determined action.”

Living up to his legacy, and what Dr. King believed our Nation could become requires more than just reflection—it requires action. We must protect the hard-fought gains he helped achieve and continue his unfinished struggle. That is why the Congress must pass Federal legislation to protect the right to vote—a right that is under attack by a sinister combination of voter suppression and election subversion. We must confront the scourge of racism and white supremacy—a stain on our Nation—and give hate no safe harbor in America. We must strive to achieve not just political equality but also economic justice so that workers can earn a decent living, students can learn safely, the sick can access health care, the poor can climb out of poverty, the elderly can age with dignity, and everyone in America can live without discrimination or fear.

Just as in Dr. King's time, there are those who now say that change would be too disruptive and that these urgent needs can wait. But we must resist complacency, summon new resolve to advance the cause of freedom and opportunity, and do our part to bend the arc of the moral universe toward justice. This is the cause of our time. We are at an inflection point in our history—in the midst of a battle for the very soul of our Nation. We all must find the courage to keep pushing forward in our struggle to realize Dr. King's dream for a freer, fairer, and more just society. We must keep the faith in that righteous cause—and in each other.

NOW, THEREFORE, I, JOSEPH R. BIDEN JR., President of the United States of America, by virtue of the authority vested in me by the Constitution and the laws of the United States, do hereby proclaim Monday, January 17, 2022, as the Martin Luther King, Jr., Federal Holiday. I encourage all Americans to observe this day with appropriate civic, community, and service projects in honor of Dr. King and to visit www.MLKDay.gov to find Martin Luther King, Jr., Day of Service projects across our country.

IN WITNESS WHEREOF, I have hereunto set my hand this fourteenth day of January, in the year of our Lord two thousand twenty-two, and of the Independence of the United States of America the two hundred and forty-sixth.

[FR Doc. 2022-01163

Filed 1-19-22; 8:45 am]

Billing code 3395-F2-P